DEPARTMENT OF THE INTERIOR

National Park Service

[NPS-WASO-NAGPRA-NPS0034445; PPWOCRADN0-PCU00RP14.R50000]

Notice of Inventory Completion: Office of the State Archaeologist, University of Iowa, Iowa City, IA

AGENCY: National Park Service, Interior.

ACTION: Notice.

SUMMARY: The Office of the State Archaeologist Bioarchaeology Program has completed an inventory of human remains and associated funerary objects in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Office of the State Archaeologist Bioarchaeology Program. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Office of the State Archaeologist Bioarchaeology Program at the address in this notice by October 6, 2022.

FOR FURTHER INFORMATION CONTACT: Dr. Lara Noldner, Office of the State Archaeologist Bioarchaeology Program, University of Iowa, 700 S Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains and associated funerary objects under the control of the Office of the State Archaeologist, University of Iowa, Iowa City, IA. The human remains and associated funerary objects were removed from Madison and Dawes Counties, Nebraska, as well as unknown locations in Nebraska.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Office of the State Archaeologist Bioarchaeology Program professional staff in consultation with representatives of the Apache Tribe of Oklahoma; Assiniboine and Sioux Tribes of the Fort Peck Indian Reservation, Montana; Cheyenne and Arapaho Tribes, Oklahoma (previously listed as Cheyenne-Arapaho Tribes of Oklahoma); Cheyenne River Sioux Tribe of the Cheyenne River Reservation, South Dakota; Citizen Potawatomi Nation, Oklahoma; Comanche Nation, Oklahoma; Crow Creek Sioux Tribe of the Crow Creek Reservation, South Dakota; Crow Tribe of Montana; Flandreau Santee Sioux Tribe of South Dakota; Ho-Chunk Nation of Wisconsin; Iowa Tribe of Kansas and Nebraska; Iowa Tribe of Oklahoma; Kaw Nation, Oklahoma; Kiowa Indian Tribe of Oklahoma; Lower Brule Sioux Tribe of the Lower Brule Reservation, South Dakota; Lower Sioux Indian Community in the State of Minnesota; Miami Tribe of Oklahoma; Northern Arapaho Tribe of the Wind River Reservation, Wyoming (previously listed as Arapaho Tribe of the Wind River Reservation, Wyoming); Northern Cheyenne Tribe of the Northern Cheyenne Indian Reservation, Montana; Oglala Sioux Tribe (previously listed as Oglala Sioux Tribe of the Pine Ridge Reservation, South Dakota); Omaha Tribe of Nebraska; Otoe-Missouria Tribe of Indians, Oklahoma; Pawnee Nation of Oklahoma; Peoria Tribe of Indians of Oklahoma; Ponca Tribe of Indians of Oklahoma; Ponca Tribe of Nebraska; Prairie Band Potawatomi Nation (previously listed as Prairie Band of Potawatomi Nation, Kansas); Rosebud Sioux Tribe of the Rosebud Indian Reservation, South Dakota; Sac & Fox Nation of Missouri in Kansas and Nebraska; Sac & Fox Nation, Oklahoma; Sac & Fox Tribe of the Mississippi in Iowa; Santee Sioux Nation, Nebraska; Sisseton-Wahpeton Oyate of the Lake Traverse Reservation, South Dakota; Spirit Lake Tribe, North Dakota; Standing Rock Sioux Tribe of North & South Dakota; The Osage Nation (previously listed as Osage Tribe); Three Affiliated Tribes of the Fort Berthold Reservation, North Dakota; Upper Sioux Community, Minnesota; Winnebago Tribe of Nebraska; and the Yankton Sioux Tribe of South Dakota (hereafter referred to as “The Tribes”).

History and Description of the Remains

At an unknown date, human remains representing, at minimum, two individuals were removed from unknown locations in Richardson and Nance Counties, NE. The human remains were removed from at least two locations near Rulo and Genoa, NE, by a private collector. After the collector passed away, the human remains were given to another collector who notified the University of Iowa Office of the State Archaeologist Bioarchaeology Program (OSA-BP). In August of 2019, the human remains were transferred to the OSA-BP. The human remains belong to two adult individuals of unknown age and sex (Burial Project 3451). No known individuals were identified. No associated funerary objects are present.

At an unknown date, human remains representing, at minimum, two individuals were removed from an unknown location in NE. A resident of Missouri Valley, IA, found human remains in a box of rocks purchased at an auction around 1970. The box also contained a tag stating that the human remains belonged to “Sioux or Omaha Indians.” The basis for this identification is not clear. In 1995, the human remains were transferred to the Office of the State Archaeologist Bioarchaeology Program. The human remains belong to a young-to-middle aged adult male and an adult of indeterminate age and sex. Osteological evidence supports the identification of these individuals as Native American (Burial Project 862). No known individuals were identified. No associated funerary objects are present.

Sometime in the 1930s, human remains representing, at minimum, one individual were removed from an unknown location near Bellevue, NE. The human remains were excavated from a site either along or overlooking the Missouri River. In 1996, a private citizen transferred the human remains to the Office of the State Archaeologist Bioarchaeology Program. The human remains belong to a middle-aged male. Antiquity is suggested by the condition of the human remains (Burial Project 1021). No known individual was identified. No associated funerary objects are present.

At an unknown date, human remains representing, at minimum, 11 individuals were removed from an unknown location in NE, by an avocational archeologist, who stored them in his home. Following his death, his wife transferred the human remains to the Office of the State Archaeologist Bioarchaeology Program. The human remains belong to eight mature adults and three juveniles aged newborn-six months, 2.5-12.9 years, and 3.5-14.8 years. Antiquity is suggested by the condition of the human remains (Burial Project 1712). No known individuals were identified. The 11 associated funerary objects are six Plains Woodland ceramic sherds, two pieces of hematite, two fragments of chert debitage, and one fragment of a worked bone tool.

At an unknown date, human remains representing, at minimum, one individual were removed from an unknown location on the Elk Horn River near Norfolk, Madison County, NE. An Iowa resident found the human remains—an incomplete femur—in the river. In 2004, the human remains were transferred to the Office of the State Archaeologist Bioarchaeology Program. The human remains belong to an adult of indeterminate age and sex. Antiquity is suggested by the condition of the human remains (Burial Project 2011). No known individual was identified. No associated funerary objects are present.

Sometime between 1914 and 1935, human remains representing, at minimum, one individual were removed from an unknown location in or near Crawford, Dawes County, NE. The human remains were stored at the Iowa State Historical Society with an accompanying tag indicating a provenience of Crawford, Nebraska. In 2013, the Iowa State Historical Society transferred the human remains to the Office of the State Archaeologist Bioarchaeology Program. The cranial remains belong to a young juvenile (Burial Project 2926). No known individual was identified. No associated funerary objects are present.

At an unknown date, human remains representing, at minimum, three individuals were removed from an unknown location, most likely in Nebraska. The human remains were transferred by a collector in Murray, NE, to a collector in Fort Madison, IA. After the collector's death in 1994, the human remains were transferred to the Office of the State Archaeologist Bioarchaeology Program. The human remains belong to an adult of indeterminate age and sex, an infant, and an older juvenile (Burial Project 785). No known individuals were identified. No associated funerary objects are present.

Archival information and oral accounts indicate that all of the human remains listed in this notice were removed from the State of Nebraska. The condition of the human remains and, in some cases, osteological evidence from the cranial and dental elements, demonstrate that the individuals in question are Native American. As these human remains cannot be dated or attributed to a particular archeological context, they cannot be affiliated with any present-day Indian Tribe.

Determinations Made by the Office of the State Archaeologist Bioarchaeology Program

Officials of the Office of the State Archaeologist Bioarchaeology Program have determined that:

• Pursuant to 25 U.S.C. 3001(9), the human remains described in this notice are Native American based on archival information and cranial and dental morphology.

• Pursuant to 25 U.S.C. 3001(9), the human remains described in this notice represent the physical remains of 21 individuals of Native American ancestry.

• Pursuant to 25 U.S.C. 3001(3)(A), the 11 objects described in this notice are reasonably believed to have been placed with or near individual human remains at the time of death or later as part of the death rite or ceremony.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains and associated funerary objects should submit a written request with information in support of the request to Dr. Lara Noldner, Office of the State Archaeologist Bioarchaeology Program, University of Iowa, 700 S Clinton Street, Iowa City, IA 52242, telephone (319) 384-0740, email lara-noldner@uiowa.edu, by October 6, 2022. After that date, if no additional requestors have come forward, transfer of control of the human remains and associated funerary objects to The Tribes may proceed.

The Office of the State Archaeologist Bioarchaeology Program is responsible for notifying The Tribes that this notice has been published.

Dated: August 29, 2022.
Melanie O'Brien,
Manager, National NAGPRA Program.

[FR Doc. 2022-19165 Filed 9-2-22; 8:45 am]

BILLING CODE 4312-52-P